DEPARTMENT OF HEALTH AND HUMAN SERVICES

Centers for Disease Control and Prevention

[30Day-14-14YI]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessing School-centered HIV/STD Prevention Efforts in a Local Education Agency—New—Division of Adolescent and School Health (DASH), National Center for HIV/AIDS, Viral Hepatitis, STD, and TB Prevention, Centers for Disease Control and Prevention (CDC).

Background and Brief Description

Human Immunodeficiency Virus (HIV) infections remain high among young men who have sex with men. The estimated number of new HIV infections increased between 2008 and 2010 both overall and among Men who have Sex with Men (MSM) ages 13 to 24. Furthermore, sexual risk behaviors associated with HIV, other sexually transmitted disease (STD), and pregnancy often emerge in adolescence. For example, 2011 Youth Risk Behavior Surveillance System (YRBSS) data revealed 47.4% of U.S. high school students reported having had sex, and among those who had sex in the previous three months, 39.8% reported having not used a condom during last sexual intercourse. In addition, 2001-2009 YRBSS data revealed high school students identifying as gay, lesbian, and bisexual and those reporting sexual contact with both males and females were more likely to engage in sexual risk-taking behaviors than heterosexual students.

Given the disproportionate risk for HIV among Young Men who have Sex with Men (YMSM) ages 13-24, it is important to find ways to reach the younger youth (i.e., ages 13-19) in this range to decrease sexual risk behaviors and increase health-promoting behaviors such as routine HIV testing.

Schools provide one opportunity for this. Because schools enroll more than 22 million teens (ages 14-19) and often have existing health and social services infrastructure, schools and their staff members are well-positioned to connect youth to a wide range of needed services, including housing assistance, support groups, and sexual health services such as HIV testing. As a result, CDC's DASH has focused a number of HIV and STD prevention efforts on strategies that can be implemented in or centered around schools.

CDC requests a three-year OMB approval to conduct a new information collection entitled, “Assessing School-Centered HIV/STD Prevention Efforts in a Local Education Agency”. The information collection uses a self-administered paper-pencil questionnaire (Youth Health and School Climate Questionnaire) to conduct an in-depth assessment of HIV and STD prevention efforts that are taking place in one CDC-funded local education agency (LEA).

This data collection will provide data and reports for the LEA, and will allow the LEA to identify areas of the program that are working well and other areas that require improvement. In addition, the findings will allow CDC to determine the potential impact of currently recommended strategies and make changes to those recommendations if necessary.

The questionnaire will include questions on the following topics: Demographic information; HIV and STD risk behaviors; use of HIV and STD health services; experiences at school, including school connectedness, harassment and bullying, homophobia, support of Lesbian, Gay, Bisexual, Transgender, and Queer students; sexual orientation; receipt of referral for HIV and STD prevention health services; and health education.

The questionnaire will be administered in 2014 and 2016 to 16,500 students from seven high schools (grades 9-12) that are participating in the HIV/STD prevention project. Although some students may take the questionnaire in multiple years, this is not a longitudinal design and students' responses will not be tracked across the years. No personally identifiable information will be collected.

All students' parents will receive parental consent forms that provide them with an opportunity to opt their children out of the study. In addition, each student will be given an assent form that explains he or she may choose not to take the questionnaire or may skip any questions in the questionnaire with no penalty. Participation is completely voluntary.

The estimated burden per response ranges from 35-45 minutes. This variation in burden is due to the slight variability in skip patterns that may occur with certain responses and variations in the reading speed of students. The burden estimates presented here are based on the assumption of a 40-minute response time per response. Students in the 12th grade in fall 2014 will complete the questionnaire only once. It is estimated that students in the 9th, 10th, and 11th grade will complete the questionnaire in fall of 2014 and again in the spring of 2016 when they will be 10th, 11th, and 12th grade students. In addition, students who are in the 9th grade in spring of 2016 will also complete the questionnaire.

Annualizing this collection over three years results in an estimated annualized burden of 7,333 hours for respondents. There are no costs to respondents other than their time.

Estimated Annualized Burden
Respondents | Form name | Number of respondents | Number of responses per respondent | Average burden per response (in hours)
Students in the grades 9-12 | Youth Health and School Climate Questionnaire | 11,000 | 1 | 40/60

Leroy A. Richardson,
Chief, Information Collection Review Office, Office of Scientific Integrity, Office of the Associate Director for Science, Office of the Director, Centers for Disease Control and Prevention.

[FR Doc. 2014-20099 Filed 8-22-14; 8:45 am]

BILLING CODE 4163-18-P